FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date reissued
4656NF | Barsan International, Inc., 136 Central Avenue, Clark, NJ 07066 | October 24, 2001.
3326F | Modern Cargo Services Inc., 11265 NW 131st Street, Medley, FL 33178 | November 1, 2001.
4592F | Natasha International Freight, Inc., 12912 SW 133 Court, Suite A, Miami, FL 33186 | December 8, 2001.
16400N | North American (U.K.) Limited, 7-8 Borrowdale Road, Workingham/Berk, England RG415UX | November 4, 2001.

Sandra L. Kusumoto,
Director, Bureau of Consumer Complaints and Licensing.

[FR Doc. 02-2887 Filed 2-6-02; 8:45 am]

BILLING CODE 6730-01-P